DEPARTMENT OF AGRICULTURE

Office of the Secretary

Meeting Notice of the National Agricultural Research, Extension, Education, and Economics Advisory Board

AGENCY: Research, Education, and Economics, USDA.

ACTION: Notice of meeting.

SUMMARY: In accordance with the Federal Advisory Committee Act, Section 1408 of the National Agricultural Research, Extension, and Teaching Policy Act of 1977, and the Agriculture Improvement Act of 2018, the United States Department of Agriculture (USDA) announces a meeting of the National Agricultural Research, Extension, Education, and Economics Advisory Board.

DATES: The National Agricultural Research, Extension, Education, and Economics Advisory Board will meet July 17-19, 2019. The public may file written comments up to two weeks after the meeting with the contact person, August 2, 2019.

ADDRESSES: The meeting will take place at The Darcy Hotel, 1515 Rhode Island Avenue NW, Washington, DC 20005. Written comments may be sent to: The National Agricultural Research, Extension, Education, and Economics Advisory Board Office, Room 332A, Whitten Building, United States Department of Agriculture, STOP 0321, 1400 Independence Avenue SW, Washington, DC 20250-0321.

FOR FURTHER INFORMATION CONTACT: Michele Esch, Executive Director/Designated Federal Official, or Shirley Morgan-Jordan, Program Support Coordinator, National Agricultural Research, Extension, Education, and Economics Advisory Board; telephone: (202) 720-3684; fax: (202)720-6199; or email: nareee@ars.usda.gov.

SUPPLEMENTARY INFORMATION:

Purpose of the meeting: The Board will meet to provide advice and recommendations on the top priorities and policies for food and agricultural research, education, extension, and economics. The main focus of this meeting will be to reconvene and reestablish the Board after the reauthorization of the Farm Bill. The Board will discuss priority setting for the Research, Education, and Economics (REE) mission area, including reviewing the draft USDA Science Plan and strategic programmatic themes. The Board will also receive updates from the REE Deputy Under Secretary and the leadership from the REE agencies. A detailed agenda may be received from the contact person identified in this notice or at https://nareeeab.ree.usda.gov/meetings/general-meetings.

On Wednesday, July 17, 2019, the Advisory Board will convene from 8:00 a.m.-5:00 p.m. EDT. On Thursday, July 18, 2017, the Advisory Board will reconvene from 8:00 a.m.-5:00 p.m. And on Friday, July 19, 2019, the Board will begin at 8:00 a.m. EDT and adjourn by 12:00 p.m. (noon) EDT.

Public Participation: This meeting is open to the public and any interested individuals wishing to attend. Opportunity for public comment will be offered each day of the meeting. To attend the meeting and/or make oral statements regarding any items on the agenda, you must contact Michele Esch or Shirley Morgan-Jordan at 202-720-3684; email: nareee@ars.usda.gov at least 5 business days prior to the meeting. Members of the public will be heard in the order in which they sign up at the beginning of the meeting. The Chair will conduct the meeting to facilitate the orderly conduct of business. Written comments by attendees or other interested stakeholders will be welcomed for the public record before and up to two weeks following the Board meeting (or by close of business Friday, August 2, 2019). All written statements must be sent to Michele Esch, Designated Federal Officer and Executive Director, National Agricultural Research, Extension, Education, and Economics Advisory Board, U.S. Department of Agriculture, Room 332A, Jamie L. Whitten Building, Mail Stop 0321,1400 Independence Avenue SW, Washington, DC 20250-0321; or email: nareee@ars.usda.gov. All statements will become a part of the official record of the National Agricultural Research, Extension, Education, and Economics Advisory Board and will be kept on file for public review in the Research, Education, and Economics Advisory Board Office.

Steve Censky,
Deputy Secretary, U.S. Department of Agriculture.

[FR Doc. 2019-14013 Filed 6-28-19; 8:45 am]

BILLING CODE 3410-03-P